DEPARTMENT OF ENERGY

Federal Energy Regulatory Commission

[Docket No. EL04-31-000, et al.]

Quest Energy, L.L.C., et al.; Electric Rate and Corporate Filings

December 4, 2003.

The following filings have been made with the Commission. The filings are listed in ascending order within each docket classification.

1. Quest Energy, L.L.C. v. The Detroit Edison Company

[Docket No. EL04-31-000]

Take notice that on December 2, 2003, Quest Energy, L.L.C. filed a Complaint against The Detroit Edison Company (DTE), seeking compensation for Imbalance Services provided pursuant to the DTE Open Access Transmission Tariff.

Comment Date: December 22, 2003.

2. Exelon Fore River Development, LLC; Exelon Mystic Development, LLC; Exelon Edgar LLC; Exelon New Boston LLC, Exelon Framingham LLC, Exelon West Medway LLC; Exelon Wyman LLC; and Exelon New England Power Marketing, L.P.

[Docket Nos. ER01-41-004; ER02-42-005; ER01-513-005; and ER99-2404-004]

Take notice that on November 28, 2003, the nine subsidiaries of Exelon Generation Company L.L.C. (Exelon) listed in the above caption (collectively, Applicants), tendered for filing an updated market power study pursuant to the Commission's various orders granting those entities market-based rate authority. Applicants state that the submission demonstrates that Exelon and its subsidiaries continue to satisfy the Commission's requirements for authority to sell power at market-based rates. Applicants further state that they also tendered for filing new tariff provisions committing to abide by the Market Behavior Rules recently set forth by the Commission in Investigation of Terms and Conditions of Public Utility Market-Based Rate Authorizations, 105 FERC ¶ 61,128 (Nov. 17, 2003).

Comment Date: December 19, 2003

3. New England Power Pool

[Docket No. ER04-239-000]

Take notice that on December 1, 2003, the New England Power Pool (NEPOOL) Participants Committee filed for acceptance materials to permit NEPOOL to terminate the membership of El Cap II, LLC (El Cap), Leonard LaPorta, Jr. (LaPorta), and Marc Schaefer (Schaefer). The Participants Committee requests a November 1, 2003 effective date for the termination of El Cap and LaPorta, and a December 1, 2003 effective date for the termination of Schaefer.

The Participants Committee states that copies of these materials were sent to the New England state governors and regulatory commissions and the Participants in NEPOOL.

Comment Date: December 19, 2003.

4. Ameren Services Company

[Docket No. ER04-240-000]

Take notice that on November 28, 2003, Ameren Services Company (ASC) tendered for filing a revised Network Integration Transmission Service Agreement between ASC and City of Owensville, Missouri. ASC asserts that the purpose of the filing is to replace the executed Agreement in Docket No. ER02-931-000 with the revised executed Agreement.

Comment Date: December 19, 2003.

5. American Electric Power Service Corporation

[Docket No. ER04-241-000]

Take notice that on November 28, 2003, American Electric Power Service Corporation (AEPSC) as agent for Central and South West Services, Inc. (CSW) tendered for filing pursuant to Section 35.15 of the Federal Energy Regulatory Commission's regulations, 18 CFR 35.15, a Notice of Cancellation of Service Agreements under CSW FERC Electric Tariff, Original Volume No. 8.

AEPSC requests an effective date of November 1, 2003 for the cancellation.

AEPSC states it has served copies of the filing upon the parties listed in Exhibit 1 and the affected state regulatory commissions.

Comment Date: December 19, 2003.

6. Pacific Gas and Electric Company

[Docket No. ER04-242-000]

Take notice that on November 28, 2003, Pacific Gas and Electric Company (PG&E) tendered for filing a revised Grid Management Charge Pass-Through Tariff (PTT). PG&E states that this filing seeks to recover the costs proposed in the California Independent System Operator Corporation's (California ISO) GMC filing in Docket No. ER04-115-000 on October 31, 2003. PG&E requests an effective date of January 1, 2004.

PG&E states that copies of this filing have been served upon the California Public Utilities Commission, all affected customers and the California ISO.

Comment Date: December 19, 2003.

7. Orange and Rockland Utilities, Inc.

[Docket No. ES04-7-000]

Take notice that on November 24, 2003, Orange and Rockland Utilities, Inc. (O&R) submitted an application pursuant to Section 204 of the Federal Power Act seeking authorization to issue short-term debt in amount not to exceed $150 million.

Comment Date: December 15, 2003.

8. Consolidated Edison Company of New York, Inc.

[Docket No. ES04-8-000]

Take notice that on November 24, 2003, Consolidated Edison Company of New York, Inc. submitted an application pursuant to Section 204 of the Federal Power Act seeking authorization to issue short-term debt in amount not to exceed $1 billion.

Comment Date: December 15, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E3-00552 Filed 12-12-03; 8:45 am]

BILLING CODE 6717-01